DEPARTMENT OF THE INTERIOR

National Park Service

36 CFR Part 7

RIN 1024-AD11

Special Regulations; Areas of the National Park System

AGENCY: National Park Service, Interior.

ACTION: Proposed rule.

SUMMARY: The National Park Service is proposing this rule to more effectively manage winter visitation and recreational use in Yellowstone and Grand Teton National Parks and the John D. Rockefeller, Jr., Memorial Parkway. This proposed rule is in conjunction with the Winter Use Plans Final Environmental Impact Statement and the Final Supplemental Environmental Impact Statement and is necessary to mitigate impacts resulting from oversnow motorized recreation in the parks and to implement the conditional decisions made in the Record of Decision of March 25, 2003. The proposal utilizes an adaptive management strategy and, in order to minimize impacts, requires, among other things, that most recreational snowmobiles and snowcoaches operating in the parks meet certain air and sound requirements, most snowmobiles be accompanied by a trained guide, and establishes daily entry limits on the numbers of snowmobiles that may enter the parks. Cross-country routes will continue to remain closed to oversnow motorized vehicles.

DATES: Comments must be received by October 14, 2003.

ADDRESSES: Comments may be sent to Yellowstone National Park, Planning Office, PO Box 168, Yellowstone NP, WY 82190. Comments may also be submitted online at http://www.nps.gov/yell/rule.

FOR FURTHER INFORMATION CONTACT: John Lacklin, Planning Office, Yellowstone National Park, 307-344-2021 or at the address listed in the ADDRESSES section.

SUPPLEMENTARY INFORMATION: The National Park Service (NPS) has been managing winter use issues in Yellowstone National Park (YNP), Grand Teton National Park (GTNP), and the John D. Rockefeller, Jr., Memorial Parkway (the Parkway) for several decades. In 1997 the Fund for Animals and others filed suit, alleging that the NPS failed to: Consult with the U.S. Fish and Wildlife Service on impacts of winter use on threatened and endangered species; prepare an EIS concerning winter use; and evaluate the effects of trail grooming on wildlife and other park resources. The suit was resolved with a settlement agreement in October 1997 which, among other things, required the NPS to prepare a new winter use plan for the three park units. On October 10, 2000, a Winter Use Plans Final Environmental Impact Statement (FEIS) was published for YNP, GTNP, and the Parkway. A Record of Decision (ROD) was signed by Intermountain Regional Director Karen Wade on November 22, 2000, and subsequently distributed to interested and affected parties. The ROD selected FEIS Alternative G, which eliminated both snowmobile and snowplane use from the parks by the winter of 2003-2004, and provided access via an NPS-managed, mass-transit snowcoach system. This decision was based on a finding that the snowmobile and snowplane use existing at that time, and the snowmobile use analyzed in the FEIS alternatives, impaired park resources and values, thus violating the statutory mandate of the NPS.

Implementing aspects of this decision required a special regulation for each park unit in question. Following publication of a proposed rule and the subsequent public comment period, a final rule was published in the Federal Register on January 22, 2001 (66 FR 7260). The rule became effective on April 22, 2001.

On December 6, 2000, the Secretary of the Interior, the Director of the National Park Service and others in the Department of the Interior and the NPS were named as defendants in a lawsuit brought by the International Snowmobile Manufacturers' Association and several groups and individuals. The State of Wyoming subsequently intervened on behalf of the plaintiffs. Following promulgation of final regulations, the original complaint was amended to also challenge the regulations. The lawsuit asked for the decision, as reflected in the ROD, to be set aside. The lawsuit alleged that NPS failed to give legally mandated consideration to all of the alternatives, made political decisions outside the public process, and, contradictory to evidence and data, failed to give the public appropriate notice and participation, failed to adequately consider and use the proposals and expertise of the cooperating agencies, failed to properly interpret and implement the parks' purpose, discriminated against disabled visitors, and improperly adopted implementing regulations. A procedural settlement was reached on June 29, 2001, under which, NPS prepared a Supplemental Environmental Impact Statement (SEIS). In accordance with the settlement, the SEIS incorporated “any significant new or additional information or data submitted with respect to a winter use plan.” Additionally, the NPS provided the opportunity for additional public participation in furtherance of the purposes of NEPA. A Notice of Intent to prepare a Supplemental Environmental Impact Statement was published in the Federal Register on July 27, 2001 (66 FR 39197).

A draft SEIS was published on March 29, 2002, and distributed to interested and affected parties. NPS accepted public comments on the draft for 60 days, and 357,405 pieces of correspondence were received. The draft SEIS examined four additional alternatives: Two alternatives to allow some form of snowmobile access to continue; a no-action alternative, which would implement the November 2000 ROD; and another alternative which would implement the no-action alternative one year later to allow additional time for phasing in snowcoach-only travel. The SEIS focused its analysis only on the issues relevant to allowing recreational snowmobile and snowcoach use in the parks. These impact topics included: Air quality and air quality related values, employee health and safety, natural soundscapes, public health and safety, socioeconomics, wildlife—bison and elk, and visitor experience. The SEIS did not include re-evaluating the decision to ban snowplane use on Jackson Lake because this had not been an issue in the lawsuit, and was not an aspect of the resulting settlement.

On November 18, 2002, the NPS published a final rule (67 FR 69473) based on the FEIS, which generally postponed for one year implementation of the phase-out of snowmobiles in the parks under the January 2001 regulation. This rule allowed for additional time to plan and implement the NPS-managed mass-transit, snowcoach-only system outlined in the FEIS as well as time for completion of the SEIS. The rule delayed the implementation of the daily entry limits on snowmobiles until the winter of 2003-2004 and the complete prohibition on snowmobiles until 2004-2005. The transitional requirement under the 2001 regulation that snowmobile parties use an NPS-permitted guide was also delayed until the 2003-2004 winter use season.

Other provisions under the January 2001 regulation concerning licensing requirements, limits on hours of operation, and the ban on snowplane use remained effective for the winter use season of 2002-2003.

The Notice of Availability for the final SEIS was published on February 24, 2003 (68 FR 8618). The final SEIS included a new alternative, alternative 4, consisting of elements which fell within the scope of the analyses contained in the Draft SEIS and which was identified as the preferred alternative. In addition, the final SEIS included changes to the alternatives, changes in modeling assumptions and analysis, and it incorporated additional new information. Intermountain Regional Director Karen Wade signed a Record of Decision for the SEIS, which became effective on March 25, 2003. The ROD selected Final SEIS alternative 4 for implementation, and it enumerated additional modifications to that alternative. The final SEIS and ROD found that implementation of final SEIS alternatives 1a, 1b, 3, or 4 would not be likely to impair park resources or values resulting from motorized oversnow recreation. Promulgation of the regulations proposed in this rule is necessary to implement the March 25, 2003, ROD. Absent the promulgation of such new regulations, the existing regulations reducing the numbers of snowmobiles that may be used in the parks during the winter of 2003-2004, but without air and sound requirements, will continue to apply.

Park Resource Issues

As disclosed in the FEIS and SEIS, the NPS is concerned about impacts to park resources and values resulting from the use of motorized oversnow vehicles, including both snowcoaches and snowmobiles. These impacts are summarized below. Additional information is available in the SEIS and FEIS, available online at: http://www.nps.gov/grte/winteruse/intro.htm and http://www.nps.gov/yell/technical/planning/winteruse/plan/index.htm respectively.

Air Quality and Air Quality Related Values

Over the past 10 years, increases in the number of visitors using snowmobiles in YNP and GTNP have intensified concerns regarding localized air pollution and its effects on the health of park employees, visitors, and operators and riders of snowmobiles. Although NPS has not documented violations of federal or state ambient air quality standards, these standards have been approached, especially on days when atmospheric conditions produce little air movement. In both cases the NPS is relying on EPA approved methodologies and equipment for carbon monoxide testing at a station operated by the State of Montana and located near the West Entrance to Yellowstone. Two-stroke snowmobile engines typically produce relatively high amounts of carbon monoxide, particulate matter, and volatile organic compounds. New commercially available snowmobile engine technology, especially certain four-stroke snowmobiles, reduce carbon monoxide emissions by as much as 85% and hydrocarbons by 95-98%, relative to the EPA's baseline assumptions about current average two-stroke snowmobile emissions.

Employee and Visitor Health and Safety

Both parks employees and visitors are at times exposed to the hazards of loud sounds, exhaust emissions, and naturally occurring avalanches. Significant levels of carbon monoxide, particulate matter, and other toxic air pollutants have been found near the West Entrance to YNP. Complaints of nausea, dizziness, headaches, sore throats, eye irritation, light-headedness, and lethargy are frequent among employees who work at the West Entrance and others who work within heavily used travel corridors. We have involved OSHA in a partnership with the NPS to help us proactively mitigate concerns about employee health and safety. Through this partnership, OSHA measured exposures in several workplace environments in February 2000, finding high levels of noise, carbon monoxide, benzene, formaldehyde, and severe vibration to employees riding snowmobiles during the performance of their work duties. In addition, OSHA found that an employee working primarily outside the fee kiosk at the West Entrance was over-exposed to noise due to snowmobiles, and that a ranger conducting a normal snowmobile patrol operations was over-exposed to noise at a level of 93 decibels. To address these issues in part, NPS issues appropriate personal protective equipment, such as earplugs, to employees to minimize their exposure to workplace hazards. We are also in the process of re-designing the West Entrance kiosk to minimize noise and air pollution exposure to employees. The NPS has also established the off-site sale of winter entrance passes to further reduce snowmobile congestion, and subsequent employee exposure to snowmobile emissions. The measures contained in the proposed rule would further mitigate these impacts.

Natural Soundscapes

Natural soundscapes are the unimpaired sounds of nature, and are among the intrinsic elements of the environment that are associated both with the purpose of a park and with its natural ecological functioning. Human-generated noise in the winter includes that from snowmobiles, snowcoaches, and wheeled vehicles. Of particular concern to NPS is the impact of noise generated by humans in travel corridors or staging areas in developed areas that carries into backcountry areas, where visitors expect to hear only the natural soundscape. The majority of areas visited by individuals seeking solitude and quiet lie within close proximity to travel corridors and developed areas because other, more remote, areas of the park are not as easily accessible to the average visitor.

Visitor Experience

In YNP and GTNP, an average of 75 percent of winter visitors ride snowmobiles, 12 percent ride in snowcoaches, 20 percent use cross-country skis, 2 percent use snowshoes and 22 percent drive automobiles. These figures exceed 100 percent because some visitors engage in more than one activity. Visitors come to the parks seeking a winter recreation experience and surveys have shown the primary reasons people visit is to view natural scenery and wildlife. In surveys, visitors have also indicated that experiencing “tranquility,” “peace and quiet,” and “getting away from crowds,” are important components of their visit. However, there are gaps between these characteristics and visitors' satisfaction with them based on visitor surveys. For instance, visitors rated “experiencing the tranquility” as the sixth most important component of their visit, while their satisfaction with that characteristic was 18th. Similarly, “experience peace and quiet” was rated 14th in importance and 25th in satisfaction. “Get away from crowds” had the largest gap: it was the 17th in importance and 40th in satisfaction. This indicates that visitors feel that the values of tranquility, peace and quiet, and solitude are important and expected, but that they are often dissatisfied with their actual experience. The quality of the groomed surface is also an important indicator of visitor satisfaction with oversnow travel in Yellowstone. As roads are traveled by snowmobiles and snowcoaches they can develop bumps, also called moguls. On warm days with heavy snowmobile traffic, the road surface can become so deeply moguled as to render it unsafe for travel. Roads are groomed throughout the week, some on a daily basis, to mitigate this issue.

Wildlife

Wintering wildlife in YNP and GTNP can be challenged for survival due to high snow depths, cold temperatures, and lack of available forage due to deep snow. Wildlife, especially bison and elk, are frequently encountered by travelers along park roadways. Scientific studies, case incident reports, and the experience of park staff indicate that disturbance occurs to wildlife due to some motorized oversnow recreation. This disturbance could come from a visitor, concessioner, or administrative use of snowmobiles or snowcoaches. Additionally, wildlife disturbance and harassment occurs from contact with some cross-country skiers and snowshoers, both on the roadway and in the backcountry. In spite of these contacts, there is not evidence that winter recreation is clearly responsible for any long-term adverse consequences to ungulate populations, including bison and elk. Currently both of these species are at sound population levels.

Impairment to Park Resources and Values

In managing units of the National Park System, the NPS may allow activities that have both beneficial and adverse impacts on park resources and values. However, by the provisions of the laws governing the NPS, the NPS is prohibited from taking or authorizing any action that would result in adverse impacts so significant that they would, or are likely to, impair park resources and values. An impact would be more likely to constitute impairment to the extent that it affects a resource or value whose conservation is: (1) Necessary to fulfill specific purposes identified in the establishing legislation or proclamation of the park; (2) key to the natural or cultural integrity of the park or to opportunities for enjoyment of the park; or (3) identified as a goal in the park's general management plan or other relevant NPS planning documents.

The FEIS ROD, dated November 22, 2000, concluded that, of the seven alternatives evaluated in the FEIS, only one (alternative G), which called for a phase-out of snowmobile use in the parks, did not exceed a level of impairment. This was the basis for selecting this alternative, as described in the rationale for the decision in the November 2000 ROD. In all other FEIS alternatives, the existing snowmobile use in YNP was found to impair air quality, wildlife, the natural soundscape, and opportunities for the enjoyment of the park by visitors. In GTNP, impairment to the natural soundscape and opportunities for enjoyment of the park was found to result from the impacts of snowmobile and snowplane use. In the Parkway, impairment was found to result from snowmobile use on air quality, the natural soundscape, and opportunities for enjoyment of the park. These findings were made for all alternatives with snowmobile use, including those that would have required phased-in use of cleaner and quieter snowmobiles in accordance with set objectives for air and sound emissions. It was determined that there was no way to mitigate the impairment short of reducing the amount of use as determined by an effective carrying capacity analysis, or by imposing a suitable limit unsupported by such an analysis.

The final rule implementing FEIS alternative G, published in the Federal Register on January 22, 2001, recognized that, “achieving compliance with the applicable legal requirements while still allowing snowmobile use would require very strict limits on the numbers of both snowmobile and snowcoaches.” Thus, through appropriate management actions, the January 2001 rule recognized that some snowmobile and snowcoach use could possibly be accommodated in the parks without resulting in an impairment to park resources and values.

Final SEIS alternative 4, with limited modifications, was selected in the March 25, 2003, ROD for implementation, and will be implemented through this proposed rule. NPS believes that this alternative would not impair park resources or values when fully implemented for several reasons. Fundamental to this alternative is an adaptive management and monitoring strategy, which allows park managers to modify use numbers or take other actions if thresholds related to noise, air quality, wildlife, employee and visitor health and safety, and visitor experience are exceeded. This alternative implements significant daily entry limits, which will result in fewer conflicts with wildlife, fewer air and sound emissions, and improved road conditions. Most snowmobilers entering the parks will be accompanied by a trained guide, which will reduce conflicts with wildlife and address concerns about safety. In addition, most snowmobiles and snowcoaches in the parks would be required to comply with air and sound requirements. For convenience, the snowmobile models that achieve those air and sound requirements are referred to as the best available technology (BAT). Use of BAT snowmobiles is expected to reduce the noise pollution and significantly reduce the amount of air pollution generated.

At the time of the November 2000 ROD, there were no current means of mitigation that would assure impacts to air quality and the natural soundscapes resulting from unregulated recreational snowmobile use could be reduced, predictably and soon, to a level that would not generally impair these resources and values. Cleaner snowmobiles were not commercially available at that time, nor was mass production of such machines imminent. Today, this technology has changed dramatically and is available to the public. Some four-stroke snowmobiles are substantially cleaner than standard two-stroke machines and are capable of reducing hydrocarbon emissions by up to 95% and carbon monoxide emissions by up to 85%. In addition, some four-stroke snowmobiles are quieter than standard two-stroke machines, testing at approximately 73 dB(A) versus 75-78 dB(A) for two-strokes.

This decision also reflects a commitment to provide protection of park resources and values. The decision allows appropriate levels of visitor use while recognizing that winter in YNP, GTNP, and the Parkway is a unique experience not duplicated on other public lands. Such uses are in a manner that ensures protection of park resources and values. Finally, the decision reflects the Service's concern for working closely and cooperatively with gateway communities. Within the limits authorized by the Organic Act and other legal authorities applicable to winter use in the parks, for any park's programs to be truly successful, a strong collaborative relationship with gateway community partners is essential. This relationship has been demonstrated in our planning process both by the role of these communities through the states and counties as cooperating agencies and by the March 2003 ROD.

Furthermore, the applicable laws and policies governing the NPS afford park managers broad discretion. We are led to the inevitable conclusion that there is no single decision with respect to snowmobiles mandated by these laws and policies. This is reflected by the ROD from November 2000, which would have phased out the recreational use of snowmobiles in these parks over several years, and the March 2003 ROD, which permits recreational snowmobile use under strict numerical and technological limits, with adaptive management, to respond to future impacts from motorized winter use in these parks. The strict requirements set forth in this proposed rule will allow for a reasonable level of recreational snowmobile use to continue in a manner which protects, not impairs, park resources and values.

Entrance Fees and Reservations

Because of the absence of plowed roads and the limited facilities which are open within the parks in the winter, entrance to the parks via snowmobile or snowcoach is fundamentally different than visits during other seasons. As a practical matter, this proposed rule will effectively require that visitors wishing to enter Yellowstone via a snowmobile or snowcoach have an advance reservation. Therefore, entrance fees to Yellowstone will parallel this reservation system by becoming a daily entry fee system. Snowmobilers or snowcoach passengers wishing to enter the park over multiple days would still be able to purchase a multiple-day entry pass; however, visitors only entering the park on one day would now have the option of purchasing a one-day pass. In the past, the NPS has sold snowmobile entrance passes that allowed entry for seven consecutive days, however we wish to avoid the potential confusion to a visitor who might pay for a seven-day snowmobile entry fee, but only have reservations to actually enter the park for one day. We will be modifying our winter entry fees to reflect this distinction through a separate administrative process.

Description of the Proposed Rule

Many of the regulations regarding over-snow transportation have been in existence at the park under the authority of 36 CFR Part 7 or 36 CFR 1.5. Regulations such as the operating conditions, designated routes, and restricted hours of operation have been in effect and enforced by NPS employees for several years. They are included in this rule, with only slight modifications, to remind the public of all the regulations that apply to over-snow transportation for each park area. New regulations such as alcohol limits, BAT requirements, daily entry limits and guiding requirements are new and are explained in detail in this proposed rule.

The NPS is proposing an adaptive management and monitoring strategy to mitigate the impacts described previously on air quality, employee and visitor health and safety, natural soundscapes, wildlife, and visitor experience, while allowing snowmobile access on all major oversnow routes in Yellowstone and Grand Teton National Parks and the John D. Rockefeller, Jr., Memorial Parkway. The NPS will continuously adapt these limits to protect park resources and values while allowing for the enjoyment of those resources by the American people. These preliminary limits are based on the best information available to the NPS, as described in the FSEIS. The NPS welcomes new information and data pertinent to its management of park resources and visitor use and will incorporate new information in the final rule and future adaptive management decisions as appropriate. In order to prevent impairment to park resources and values, this strategy requires implementation of the following components:

Monitoring and Adaptive Management

Adaptive management allows park managers to take management actions as new information is collected about a specific resource or issue. The NPS will conduct monitoring of park resources and values, including air quality, employee and visitor health and safety, natural soundscapes, wildlife, and visitor experience. If analysis of the monitoring data identifies unacceptable impacts to park resources and values are occurring, management actions will be taken to remedy the problem. Examples of initial methods, indicators, thresholds, and management actions are identified in Attachment A of the March 25, 2003, Record of Decision. Attachment A is available online at http://www.nps.gov/grte/winteruse/winteruse.htm. These management actions could include, but are not limited to, adjustment of daily entry limits, adjustment of BAT requirements, closure of road segments, changes in the commercial to non-commercial guiding ratio, establishment of timed-entries, increased road grooming, and others.

To allow for management flexibility (the premise of adaptive management) these proposed rules would authorize the Superintendent to make changes in winter use management, with advance public notice. For example, if improved snowmobile technologies became commercially available, the Superintendent could further reduce the amount of air and sound emissions in the park units by requiring that cleaner and quieter machines be used. In such a case the parks generally would not initiate formal rulemaking or publish a notice in the Federal Register to effect changes in winter use management. Instead these changes would be authorized through these proposed rules. None of the actions in this proposed rule are intended to preclude road or other closures for safety, resource protection, or other reasons as identified in 36 CFR 1.5.

If monitoring or adaptive management leads park managers to take management actions, the Superintendent will provide appropriate public notice in accordance with 36 CFR 1.7(a). To provide the public with sufficient notice, changes in winter management of the parks would ordinarily be made by July 1 and implemented in a future winter season. The Superintendent will also report periodically to the public on monitoring results and justify any changes in winter use management. These changes would be based on analyses of the data collected from the parks' monitoring program.

We are interested in soliciting comments from the public on other potential strategies and authorities to implement adaptive management, which allow park managers similar flexibility as the process described above. We recognize that adaptive management has only been formally used in a relatively few national parks, although parks have informally used it in the past.

Best Available Technology

In recent years, some snowmobile manufacturers have made significant improvements at reducing air and sound emissions in some snowmobile models. The 2002 Arctic Cat 4-Stroke Touring and the 2002 Polaris Frontier four-stroke represent the cleanest and quietest commercially available snowmobiles for which test data is available to the NPS. These snowmobiles are capable of reducing hydrocarbon emissions by 95-98% and carbon monoxide by 85%, as compared to a standard two-stroke snowmobile. In addition, four-stroke snowmobiles typically perform at full throttle at sound levels below 73 dB as measured on the A-weighted scale, as compared to two-stroke snowmobiles, which typically perform at 75-78 dB(A). Four-stroke snowmobiles also produce more even frequency spectra and are less audible over a distance, relative to two-stroke snowmobiles.

Therefore, to mitigate impacts to air quality and the natural soundscape, NPS is proposing to require that initially, most recreational snowmobiles operating in the parks, and by the winter season of 2004-2005 all recreational snowmobiles in Yellowstone, be BAT. Initially BAT would be set at any snowmobile that can achieve a 90% reduction in hydrocarbons and a 70% reduction in carbon monoxide from EPA's baseline assumptions for uncontrolled snowmobiles as published in the Federal Register on November 8, 2002 (67 FR 68241). The initial requirement is set lower than the test results from the 2002 machines to allow more than one manufacturer the opportunity to produce snowmobiles that meet the requirements while allowing the NPS to achieve our air quality goals.

Thus, any recreational snowmobile operating in YNP must achieve air emissions below 15 g/kW-hr for hydrocarbons and 120 g/kW-hr for carbon monoxide. Snowmobiles must be tested on a 5-mode engine dynamometer, in accordance with EPA's November 8, 2002, rule (67 FR 28241) with test data and methodology provided to NPS for review. The NPS is relying on the 5-mode engine dynamometer test because it is the standard testing procedure approved by the Environmental Protection Agency and because it was used in determining snowmobile emissions for the SEIS and it would allow for comparisons to be made amongst snowmobiles models. Other test methods could be approved by NPS on a case-by-case basis.

Snowmobiles would also be required to operate at or below 73 dB(A), as measured at full throttle according to Society of Automotive Engineers J192 test procedures. The initial BAT requirement for sound was established by reviewing individual machine results from side-by-side testing performed by the NPS' contractor, Harris Miller Miller & Hanson Inc. (HMMH) and the State of Wyoming's contractor, Jackson Hole Scientific Investigations (JHSI). These separate reports independently concluded that the six four-stroke snowmobiles tested between 69.6 and 77.0 dB(A) using the J192 protocol. On average, the HMMH and JHSI studies measured four-strokes at 73.1 and 72.8 dB(A) at full throttle, respectively. The SAE J192 test also allows for a tolerance of 2 dB(A) over the sound limit to account for variations in weather, snow conditions, and other factors.

Currently, little data exists on snowcoach emissions, with the exception of one laboratory study commissioned by the State of Wyoming which used a chassis dynamometer to measure emissions from one V-10 powered Ford E-350 15-passenger van (Lela, Chad C. and Jeff L. White, 2002). Field conditions in this study could not be replicated accurately in the laboratory because the percent of time a snowcoach operates in open-loop mode (with the throttle wide open, producing higher emissions) versus closed-loop mode (at normal throttle, producing extremely low emissions) is unknown. Running in snow on tracks requires more power than operation with wheels and thus the vehicle may operate in open-loop mode more frequently.

Currently no industry standard air emissions testing procedure exists for snowcoaches that would be cost effective to implement in the field. Due to the cost, it would be impractical to use an engine or chassis dynamometer in the field to determine emissions of individual snowcoaches.

There are approximately 55 snowcoaches currently operating in Yellowstone National Park. Under concessions contracts currently proposed, there could be as many as 69 snowcoaches authorized. Approximately 29 snowcoaches operating in the park were manufactured by Bombardier and were designed specifically for oversnow travel. Those 29 snowcoaches were manufactured prior to 1983 and are referred to as “historic snowcoaches” for the purpose of this rulemaking. All other snowcoaches are 12 to 15-passenger vans that have been converted for oversnow travel using tracks and/or skis.

The March 2003 ROD called for snowcoach air emissions to be no greater than 15 g/kW-hr for hydrocarbons and 120 g/kW-hr for carbon monoxide by the winter of 2005-2006. However, we do not believe it is currently feasible to enforce this requirement as there is insufficient information to establish testing procedures.

Therefore, we are proposing to require that all snowcoaches meet the EPA's standards that were in existence at the time the vehicle was manufactured. Most of these vehicles achieve EPA's Tier 1 emissions standards, which were phased-in from 1994-1996. To ensure that vehicles were meeting EPA's emissions standards, we would require that the vehicle's original pollution control equipment had not been modified or tampered with. Snowcoach owners would be required to certify to the NPS and make available for inspection upon NPS” request, that the vehicle's pollution control equipment is as originally manufactured.

EPA's Tier 1 standards require that emissions from vehicles be extremely clean. In comparison with four-stroke snowmobiles, snowcoaches operating within EPA's Tier 1 standards are cleaner, especially given their ability to carry up to seven times more passengers (Lela and White 2002). In addition, in 2004 EPA will begin phasing-in Tier 2 emissions standards for multi-passenger vans, and will be fully phased-in by 2009. Tier 2 standards will require that vehicles be even cleaner than Tier 1. Tier 2 standards would also significantly reduce the open loop mode of operation. If Tier 2 vehicles are converted to snowcoaches, then the emissions attributable to them would be further reduced in the parks.

If any of the vehicle's pollution control equipment, including the catalytic converter, associated piping, and other related parts that may release CO, HC or PM emissions in the event of mechanical failure or deterioration, had exceeded its useful life as published by the EPA, then the owner would be required to replace it. Generally, useful life for new vehicles (since 1996) is 120,000 miles or 11 years, whichever comes first. NPS is proposing that if a snowcoach owner was required to replace any pollution control equipment under this requirement, the new pollution control equipment would be required to be original equipment, if available from the vehicle's manufacturer, versus after-market equipment. If original equipment is no longer available snowcoach owners could then install after-market equipment. We are proposing that snowcoach owners install original equipment if available because it generally has a longer useful life and may be more efficient in reducing pollutants, although both are certified to the same level of emissions reduction. We are requesting comments on whether original equipment or other, including after market, equipment is more appropriate when replacing the pollution control equipment with respect to emission reduction and cost.

These air emissions requirements would be implemented during the 2005-2006 winter season.

NPS would continue to work with snowcoach owners, researchers, and other experts during the winters of 2003-2004 and 2004-2005 to better understand snowcoach emissions and to determine the most effective field testing methods. We ultimately intend to require that snowcoaches achieve numerical performance-based limits for emissions before being allowed entry into the park. We may propose a special regulation in the future to establish specific numerical performance based air and sound emission requirements for snowcoaches.

For sound emissions, snowcoaches would be required to operate at or below 75 dB by the winter of 2008-2009, as measured at 25 mph on the A-weighted scale at 50 feet. This test would be similar to Society of Automotive Engineers J1161 procedures except that snowcoaches would maintain a speed of 25 mph which is a typical snowcoach operating speed and 10 mph faster than the J1161 procedures prescribe. NPS intends to test and certify individual snowcoaches in a field setting because of the number of different makes, models, and years of manufacture being used in the parks and the fact that sound emissions vary from vehicle to vehicle. We are proposing to allow additional time to phase-in air and sound requirements for snowcoaches because of the substantial investment required to upgrade snowcoach technology and to encourage additional investment in mass transit snowcoaches.

Historic snowcoaches (defined as a Bombardier snowcoach manufactured in 1983 or earlier) would initially be exempt from air and sound requirements; however NPS will work with snowcoach owners to retrofit historic snowcoaches to meet the air and sound requirements. We are initially exempting historic snowcoaches from air and sound requirements to maintain the character of winter motorized oversnow travel. We also believe it is reasonable and prudent to work with outfitters and concessioners to determine how best to upgrade their equipment.

Beginning with the winter season of 2003-2004, all commercially guided snowmobiles operating within YNP would be required to be BAT. Beginning with the winter season of 2004-2005, all snowmobiles would be required to be BAT.

In GTNP and the Parkway, all snowmobiles operating on the Continental Divide Snowmobile Trail (CDST) and Jackson Lake must be BAT starting in 2004-2005. BAT requirements would also apply to all snowmobiles originating at Flagg Ranch and traveling west on the Grassy Lake Road. Snowmobiles originating in the Targhee National Forest and traveling eastbound on the Grassy Lake Road would not be required to utilize BAT; however, these snowmobiles could not travel further than Flagg Ranch. We are allowing this exception because the Grassy Lake Road in the Parkway is approximately 6 miles long, snowmobiles are not required to be BAT on U.S. Forest Service lands, and the NPS wishes to honor the request of the USFS that these visitors be able to access food, fuel, and other amenities available at Flagg Ranch. Any commercially guided snowmobiles authorized to operate in the Parkway or Grand Teton will be required to be BAT beginning with the winter season of 2003-2004.

NPS will annually publish a list of snowmobile makes, models, and year of manufacture that meet BAT requirements. The NPS intends to rely on certified air and sound emissions data from the private sector rather than establish its own independent testing program, which would be cost prohibitive. NPS intends to work cooperatively with the private sector—guides and outfitters as well as manufacturers—in the preparation of such lists. Each snowmobile model would be approved for entry into the parks for six winter seasons after it was first listed. Based on NPS experience, six years represents the typical useful life of a snowmobile, and thus six years provides purchasers with a reasonable length of time where operation is allowed once a particular model is listed as being compliant. Individual snowmobiles modified in such a way as to increase sound and air emissions of HC and CO beyond the proposed emission requirements would be denied entry to the parks. Currently, the NPS has sufficient test data on the 2002 Arctic Cat 4-Stroke and the 2002 Polaris Frontier to determine that they meet the BAT requirements. No other snowmobiles would be allowed entry into the parks unless they were subjected to the testing described above and met the BAT requirements herein proposed.

For both snowcoaches and snowmobiles, it would be the responsibility of the end users, guides and outfitters (or private snowcoach owners to the extent they are permitted for entry into the parks) to ensure that their oversnow vehicles comply with all applicable requirements.

Under the adaptive management framework, BAT requirements could be adjusted annually to protect park resources and values, including air quality, natural soundscapes, wildlife, visitor experience, and employee health and visitor safety. The process for changing air and sound requirements is described previously in “Monitoring and Adaptive Management.” When adjusting the BAT requirements, one of the facts the NPS will consider is the best available technology in the snowmobile market. If there is a substantial improvement in the snowmobile technology with respect to air and sound emissions, the NPS may consider adjusting these limits to reflect the best available technology. Based on technology improvements in the past few years, NPS expects that snowmobile technology will continue to improve, further reducing air and sound emissions. However, if technology worsens, the daily entry limits could be further restricted to protect park resources and values.

The NPS is interested in obtaining public comments on the issue of specifically how compliance with BAT should be determined, and what procedures NPS would use. For instance, we have preliminarily identified at least two methods that we could use to determine if snowmobiles are BAT-compliant. One method would be to average the manufacturer's Official Test Results (OTR). These tests are preformed by manufacturers in order to comply with EPA's snowmobile regulations (67 FR 68241), and reflect the actual emissions of snowmobiles. Another method would be to use the average Family Emissions Limit (FEL), which are the emissions limits that manufacturers certify to EPA for a specific engine class of snowmobiles. FELs will likely be set somewhat higher (i.e., to allow for more emissions) than OTRs to account for variances in production and insure that individual snowmobiles do not exceed the FELs.

The restrictions on air and sound emissions proposed in this rule is not a restriction on what manufacturers may produce but an end-use restriction on which commercially produced snowmobiles and snowcoaches may be used in the parks. The NPS Organic Act (16 U.S.C. 1) authorizes the Secretary of the Interior to “promote and regulate” the use of national parks “by such means and measures as conform to the fundamental purpose of said parks * * * which purpose is to “conserve the scenery and the natural and historic objects and the wild life therein and to provide for the enjoyment of the same in such manner and by such means as will leave them unimpaired for the enjoyment of future generations.” Further, the Secretary is expressly authorized by 16 U.S.C. § 3 to “make and publish such rules and regulations as he may deem necessary or proper for the use and management of the parks * * *.” This exercise of the NPS Organic Act authority is not an effort by the NPS to regulate manufacturers and is consistent with Sec. 310 of the Clean Air Act.

Since 2001, Yellowstone and Grand Teton National Parks have been converting their own administrative fleet of snowmobiles to four-stroke machines. These machines have proven successful in use throughout the parks. NPS intends to continue to purchase these snowmobiles for most administrative uses. However, we recognize that some administrative applications, such as off-trail boundary patrols outside the park in deep powder, towing heavy equipment or disabled sleds, or law enforcement uses may require additional power beyond that supplied by existing 4-stroke snowmobiles. In these limited cases, NPS may use snowmobiles that exceed BAT requirements proposed in this rule.

Use of Trained Guides

To mitigate impacts to wildlife and visitor and employee safety, all recreational snowmobiles operated in Yellowstone National Park must be accompanied by a trained guide. During the development of the SEIS and the ROD, the NPS was requested to develop an alternative to commercially guided snowmobiles. As a result we are proposing that eighty percent of the authorized daily snowmobile entries through each entrance be allocated to commercially guided tours under concessions contracts similar to those currently operating in the parks. The remaining twenty percent of daily authorized snowmobile entries will be available for non-commercially guided trips that require a trained member of the group to be authorized by NPS to lead a group of snowmobilers. The NPS has set the current 80:20 ratio to allow the public an opportunity to visit the park at their own pace through private groups. This initial ratio is based on an NPS expectation of success in mitigating wildlife impacts through a variety of guiding alternatives. The NPS will analyze how well the non-commercial guide program works to minimize impacts on wildlife and enhance visitor safety, and through the adaptive management process may revise this ratio in future years.

Beginning with the winter season of 2003-2004, eighty percent of daily snowmobile entries through each Yellowstone entrance must be accompanied by a commercial guide. In order to provide adequate time for the development and implementation of the non-commercial guiding program, for the winter 2003-2004 only, non-commercial guides will not be required; however, private snowmobile parties will be required to travel in groups. Beginning with the winter season of 2004-2005, all snowmobiles in YNP must be accompanied by a guide, either through a concession or by an authorized non-commercial guide.

In Grand Teton and the Parkway, all snowmobile parties traveling north from Flagg Ranch must be accompanied by a guide, with the same phase-in as described above for YNP. All other snowmobilers in Grand Teton and the Parkway do not have to be accompanied by a guide. Thus, in the winter of 2003-2004, eighty percent of the authorized entries via the South Gate at YNP are allocated to commercially guided parties, and twenty percent to individuals without guides. The use of guides in Grand Teton and the Parkway is not otherwise required due to the low volume of use, the conditions for access to Jackson Lake for winter fishing, the through road characteristics of the CDST, as well as the inter-agency jurisdiction on the Grassy Lake Road.

Under the adaptive management framework, requirements for use of guides, including the commercial to non-commercial guide ratio, could be adjusted annually to protect park resources and values, including air quality, natural soundscapes, wildlife, visitor experience, and employee health and visitor safety.

Non-commercial guides will be required to successfully complete a training program approved by NPS that would address park rules, safety considerations, and appropriate actions to minimize impacts to wildlife and other park resources. The NPS has not fully developed the training course but will be working with private groups to develop a curriculum and make the training widely available to the public through private businesses by the winter of 2004-2005. The NPS will require individuals seeking a non-commercial guide certification to successfully complete the training course. The training provider will need to define “successfully” in order to ensure that the attendee has met the NPS objectives of the course.

Members of non-commercial guide parties may not compensate anyone, either directly or indirectly, for non-commercial guiding services. The NPS intends that the provision for non-commercial guides is to accommodate requests that the public have alternatives to using commercial guiding services, and thus no business transaction of any kind may take place in association with non-commercial guiding services. For example, a non-commercial guide may not provide a guiding service to someone in exchange for his or her employer receiving compensation in order to classify the activity as a non-commercial guiding service.

Commercial guides are also educated in safety, interpretive skills, and appropriate actions to minimize impacts to resources and other visitors. Commercial guides receive more rigorous training and perform guiding duties, usually, as employees of a business. A commercial guide is defined as a guide who is hired by park visitors for a fee or compensation, as opposed to a non-commercial guide, who may not receive compensation or fees. Any person who guides for a fee or compensation must do so under a contract with the NPS to operate as a business within the boundaries of a park unit. Commercial guides are employed by local businesses. Those jobs are not performed by NPS employees.

Guided groups must contain from 2 to 11 snowmobiles, including the guide's machine. This would apply to commercial and non-commercial groups. Individual snowmobiles may not be operated separately from a group within the park. A minimum group size of two was established to require the public to concentrate snowmobiles together in order to reduce the frequency of wildlife encounters along the roadways. In this respect, guided parties will more closely resemble the “mass transit” aspect of snowcoach use. A maximum group size of 11 was established so that no one party would be so large that a single guide could not safely direct and manage all party members.

Except in emergency situations, guided parties must travel together and remain within a maximum distance of one-third mile of the first snowmobile in the group. This will insure that guided parties do not get spread too far out. One-third mile will allow for sufficient and safe spacing between individual snowmobiles within the guided party, allow the guide to maintain control over the group and minimize the impacts on wildlife.

Initial Daily Snowmobile Entry Limits

The number of snowmobiles that could enter the parks each day would be limited under this rule. These limits are intended to mitigate impacts to air quality, employee and visitor health and safety, natural soundscapes, wildlife, and visitor experience, while providing the opportunity to maintain historical levels of visitation to the parks with the use of snowcoaches. Once the daily snowmobile entry limits are reached, the only other means of public motorized access will be through the use of snowcoaches. No limits on snowcoach numbers are intended at this time, but could be considered in the future as part of the adaptive management process. The initial entry limits are identified in Table 1. Use limits identified in Table 1 include guides; thus both commercial and non-commercial guides are counted towards the daily entry limits. The NPS considered suggestions to not count guides themselves within these limits, but believe this suggestion would constitute a de facto increase in use from the levels being authorized. For YNP, the daily entry limits are identified for each entrance; for GTNP and the Parkway, the daily limits apply to total snowmobile use on the road segment.

Those limits are listed in the following table:

Table 1.—Initial Daily Snowmobile Entry Limits
Park entrance/road segment | Number of commercially-guided snowmobile entrance passes | Number of non-commercially guided snowmobile entrance passes ¹ | Total number snowmobile entrance passes
YNP—North Entrance | 40 | 10 | 50
YNP—West Entrance | 440 | 110 | 550
YNP—South Entrance | 200 | 50 | 250
YNP—East Entrance | 80 | 20 | 100
GTNP and the Parkway—Total Use on Continental Divide Snowmobile Trail ³ | N/A | N/A | ² 75
Parkway—Total Use Grassy Lake Road | N/A | N/A | ² 75
Jackson Lake | N/A | N/A | ² 40
¹ In the 2003-2004 winter season only, these entries would be available for unguided parties of 2 to 11 snowmobiles, to allow sufficient time to develop and implement a non-commercial guide training program.
² These users do not have to be accompanied by a guide.
³ The Continental Divide Snowmobile Trail lies within both GTNP and the Parkway. The 75 daily snowmobile use limit applies to total use on this trail in both parks.

These daily entry limits would be implemented beginning with the winter season of 2003-2004. Adaptive management and monitoring programs would be implemented to allow the interim numbers to be assessed annually. The results of the adaptive management program would determine the need for increasing or decreasing snowmobile numbers to ensure adequate protection of park resources and values, including air quality, employee and visitor health and safety, natural soundscapes, wildlife, and visitor experience. For instance, if air quality monitoring, based on EPA protocols, shows that conditions near a park entrance or along a road segment are inconsistent with the goals set forth in the March 2003 ROD, the daily entry limits could be reduced to protect air quality. In addition, should NPS adjust BAT requirements, daily entry limits might also be increased or decreased.

The purpose of these caps is to impose strict limits on the numbers of snowmobiles that may use the parks in order to minimize resulting impacts. Compared to historical use where peak days found as many as 1,700 snowmobiles in the parks, these caps represent a reduction. While the caps allow in theory for some growth in daily average snowmobile use, it is uncertain at best whether the former peak day users who are now foreclosed will shift their snowmobile use to what were the previously less busy days. While NPS does not expect this to result in an actual increase in snowmobile usage from historic levels, the adaptive management process will be used to address impacts not presently foreseen.

The daily snowmobile entry limits were derived based on several factors. First, the daily limits are based on the analysis contained in the SEIS, which concluded that these entry limits, combined with other elements of this rule, would prevent impairment to park resources and values while allowing for an appropriate range of experiences available to park visitors. Second, they approximate at minimum the historic average daily use at each entrance. At some entrances where park managers believe additional use could be accommodated without unacceptable impacts to park resources or values, the daily limits allow for growth beyond the historic daily averages.

During the winter of 2003-2004, reservations for private, unguided snowmobile parties may be made by contacting Xanterra Parks and Resorts at 307-344-7311. Every snowmobile a group uses in Yellowstone would require a reservation; thus, a group of four people riding double on two snowmobiles would need two reservations each day they snowmobile in the park. Reservations for commercially guided trips may be made by contacting the guide. The NPS is currently soliciting bids for commercially guided snowmobile concessions. Once guides are selected we will post a list of authorized commercial guides on our Web site at http://www.nps.gov/yell.

Visitors who go in and out of the park in a single day will be counted against entrance limits only at the initial entrance gate. For instance, a group that enters Yellowstone through the North Entrance, exits the park that afternoon to have lunch in West Yellowstone and re-enters the park through the West Entrance would only count towards the daily limits at the North Entrance.

Visitors who enter the parks through one entrance, exit at another entrance in order to spend that night out of the park, and then re-enter on the following day will be counted towards the daily entry limits on the following day. Snowmobile parties' subsequent entries will count towards the entry limits at whatever entrance station they first entered at the start of their trip. In the March 2003 ROD, NPS did not require that these entries be counted. After further consideration, the NPS believes that counting these entries will simplify management of snowmobile entries and the reservation system, will be less confusing to the public, and will keep the daily level of snowmobile use within the scope of the SEIS analysis.

Non-commercial groups would be required to have obtained by an advance reservation a daily entry pass, for the first entrance they intend to use on the first day of their trip and subsequent entries would be counted against the entrance gate they initially entered the park through. Thus, a non-commercial group entering at the West Entrance and spending the night outside the park would count towards the daily entry limits at the West Entrance each day the snowmobile is in the park, regardless of the entrance through which they actually re-enter.

Commercial groups would be counted each day towards their allocated number of daily entries at their base entrance as specified in their concessions contract. Thus, a commercial group entering at the West Entrance and spending the night outside the park would count against their allocation at their base entrance (West Entrance), not the entrance through which they actually enter on subsequent days.

Visitors by snowmobile spending the night in Yellowstone, such as at Old Faithful or Canyon Yurt Camp, would count towards the entry limit for each day they are in the park. These provisions could be modified through adaptive management.

Initially, snowmobiles rented at Old Faithful by an authorized concessioner will not count against daily entry limits. Currently, approximately 25 snowmobiles are available for rent at Old Faithful, and NPS controls the level of use through the concessions contract. Guiding requirements would apply to these snowmobile rentals. We do not intend for this snowmobile rental operation to substantially increase. This provision could be modified through adaptive management should monitoring detect unacceptable impacts to park resources and values.

NPS Park Passes and Fees

Because of past experiences with large groups on numerous snowmobiles, the NPS wishes to make clear the existing parameters on the use of NPS-issued Park Passes that permit entry into the park for free or at a reduced rate. Existing regulations regarding the various passes issued by the NPS specifically limit the number of people who may gain entrance to the park under a single passport or pass. The intent in the existing regulations is to admit, for free or at a reduced rate, only those persons occupying the same motor vehicle as the pass holder. Those regulations also specifically state that a second vehicle associated with this group but not occupied by the pass holder will be charged at the single-visit rate.

To carry that intent into winter use, the NPS wants to make clear that only the persons riding on the snowmobile with the passport or pass holder and their immediate family (spouse, parents, and children under the age of 21) may enter at the same fee rate as the passport or pass holder. No other associated persons or snowmobiles will be permitted entry at the reduced fee rate.

Lastly, the NPS is concerned about members of the public purchasing entrance reservations and reselling them for a personal profit since there will be a limited number of daily reservations available for non-commercial entrances. Therefore, the NPS is seeking comments on whether to prohibit the reselling of entrance reservations and by what means.

What Terms Do I Need To Know?

The NPS has added definitions for oversnow vehicle and designated oversnow route. Additionally, we have added definitions for commercial and non-commercial guides and have discussed those definitions at length earlier in this proposed rule. For snowmobiles, we are using the definition found at 36 CFR 1.4, as there is no need to alter that definition at this time. For the sake of clarity and ease, we are reiterating that definition again in this section. Earlier rulemakings specific to Yellowstone, Grand Teton and the Parkway referenced “unplowed roadways” and that terminology was changed to “designated oversnow routes” to more accurately portray the condition of the route being used for oversnow travel. Despite this terminology change, these routes will remain on roads or water surfaces used by motor vehicles and motorboats during other seasons. Previous rulemakings also referred only to snowmobiles or snowcoaches. Since there is a strong likelihood that new forms of machines will be developed that can travel on snow, a broader definition was developed to insure that such new technology remained subject to regulation. When a particular requirement or restriction only applies to a certain type of machine (for example: some concession restrictions only apply to snowcoaches) then the specific machine is stated and only applies to that type of vehicle, not all oversnow vehicles. However, oversnow vehicles that do not meet the strict definition of a snowcoach (i.e., both weight and passenger capacity) would be subject to the same requirements as snowmobiles. The definitions listed under § 7.13(l)(1) will apply to all three parks. These definitions may be further clarified based on changes in technology.

Where Must I Operate My Snowmobile in the Park?

Specific routes are listed where snowmobiles may operate, but this proposed rule also provides latitude for the Superintendent to modify those routes available for use. When determining what routes are available for use, the Superintendent will use criteria that are the same as those set forth in § 2.18(c), and may also take other issues into consideration including the most direct route of access, weather and snow conditions, the necessity to eliminate congestion, the necessity to improve the circulation of the visitor use patterns in the interest of public safety and protection of park resources. The criteria mentioned above are reiterated in this section since winter use management in these parks will not be specifically subject to § 2.18.

Snowmobiles authorized to operate on the frozen surface of Jackson Lake may gain access to the Lake by trailering their snowmobiles to the parking areas near the designated access points via the plowed roadway. There is no direct access from the CDST to Jackson Lake and use limits established for each area are distinctly separate.

What Other Conditions Apply to the Operation of Oversnow Vehicles?

A similar section existed in previous snowmobile regulations entitled “What other conditions are placed on snowmobile and snowcoach operations?” and addressed many of the same issues. A few minor changes were made to those operating requirements, including modifying the operating hours by one hour, limiting idling to 5 minutes at any one time, and no longer allowing operation of a snowmobile by persons holding only a learner's permit. These modifications were made based on experiences over the last few winters with winter use operations and the need to adjust requirements for safety and resource impact considerations.

What Conditions Apply to Alcohol Use While Operating an Oversnow Vehicle?

Although the regulations in 36 CFR 4.23 apply to oversnow vehicles, additional regulations were needed to address the issue of under-age drinking while operating a snowmobile and snowcoach operators or guides operating under the influence while performing services for others. Many states have adopted similar alcohol standards for under-age operators and commercial drivers and the NPS feels it is necessary to include these regulations specifically to help mitigate potential safety concerns.

The alcohol level for minors (anyone under the age of 21) is set at .02. Although the NPS endorses a “zero tolerance”, a very low Blood Alcohol Content (BAC) is established to avoid a chance of a false reading. Mothers Against Drunk Driving and other organizations have endorsed this enforcement posture and the NPS agrees that under-age drinking and driving, particularly in a harsh winter environment, will not be allowed.

In the case of snowcoach operator or guides, a low BAC limit is also necessary. Those persons operating a snowcoach are likely to be carrying 8 or more passengers in a vehicle with tracks or skis that is more challenging to operate than a wheeled vehicle, and along oversnow routes that could pose significant hazards should the driver not be paying close attention or have impaired judgement. Similarly, persons guiding others (commercially or non-commercially) on a snowmobile have put themselves in a position of responsibility for the safety of other visitors and of minimizing impacts to park wildlife and other resources. Should the guide's judgement be impaired, hazards such as wildlife on the road or snow obscured features, could endanger all members of the group in an unforgiving climate. For these reasons, the NPS is requiring that all guides be held to a stricter than normal standard for alcohol consumption. Therefore, the NPS has established a BAC limit of .02 for snowcoach operators and snowmobile guides. Again, the NPS endorses a “zero tolerance” but provides a minimal amount of latitude to avoid false positive readings. Should a snowcoach operator or snowmobile guide be found to have a BAC above .02, their authorization to serve as an operator or guide will be suspended and a fine may be imposed.

Do Other NPS Regulations Apply to the Use of Oversnow Vehicles?

These regulations propose to supercede the NPS' general snowmobiling regulations at 36 CFR 2.18 in order to avoid confusion as to how two separate bodies of snowmobile regulation interrelate. Relevant portions of 36 CFR 2.18 have been incorporated within these proposed regulations. The proposed rule also supercedes 36 CFR 2.19(b) because it provides for the towing of people behind an oversnow vehicle. The proposed rule prohibits towing of persons on skis, sleds, or other sliding devices by motor vehicle or snowmobile, except in emergency situations. Towing people, especially children, is a potential safety hazard and health risk due to road conditions, traffic volumes, and direct exposure to snowmobile emissions. This rule does not affect supply sleds attached by a rigid device or hitch pulled directly behind snowmobiles or other oversnow vehicles as long as no person or animal is hauled on them. Other provisions of 36 CFR Parts 1 and 2 continue to apply to the operation of oversnow vehicles unless specifically excluded here.

Are There Any Other Forms of Non-Motorized Oversnow Transportation Allowed in the Park?

YNP has specifically prohibited dog sledding and ski-joring (the practice of a skier being pulled by dogs or a vehicle) to prevent disturbance or harassment to wildlife. These restrictions have been in place for several years under regulatory authority and would now be codified in these regulations.

May I Operate a Snowplane?

Prior to the winter of 2002-2003, snowplanes were allowed on Jackson Lake within GTNP under a permit system, but not authorized for operation in YNP or the Parkway. The operation of snowplanes is now prohibited in all three parks, and this rule continues that prohibition. To avoid any uncertainty from this previous use on Jackson Lake, this proposed rule includes language that specifically prohibits the operation of snowplanes in each of these parks.

Is Violating Any of the Provisions of This Section Prohibited?

While writing this rule, park staff became concerned that a statement did not exist specifically prohibiting violations of this section. Some Magistrates have interpreted the lack of a specific prohibitory statement to be ambiguous and therefore unenforceable. Although it would seem to be implicit that each instance of a failure to abide by specific requirements is a separate violation, the proposed regulation contains clarifying language for this purpose. Each occurrence of non-compliance with these regulations is a separate violation. However, it should also be noted that each individual regulatory provision (i.e., numbered in separate subparagraphs throughout these three sections) could be violated individually and are of varying severity. Thus, each subparagraph violated can and should receive individual fines in accordance with the issuance of the park's bail schedule as issued by the appropriate Magistrate. It is not intended that violations of the individual subparagraphs of these regulations be treated as a single violation or subject only to a single fine.

Summary of Economic Analysis

In support of the proposed rulemaking, NPS conducted a draft benefit-cost analysis and regulatory flexibility analysis. In support of the final rulemaking, a quantitative benefit-cost analysis will be conducted in which the expected effects of the final rule would be monetized. The quantitative benefit-cost analysis will draw on data gathered from a survey of winter visitors to Yellowstone and Grand Teton National Parks conducted during the 2002-2003 winter season. A draft report on the survey will be released in conjunction with the draft benefit-cost analysis issued in support of the proposed rulemaking. Selected preliminary results from the survey were used to inform the draft benefit-cost analysis. The final report on the winter visitor survey will be released in conjunction with the quantitative benefit-cost analysis of the final rule. For the purposes of this benefit-cost analysis, Alternative 1b, as implemented by the 2002 “delay rule”, represents the baseline against which other alternatives are compared. Under this baseline, most snowmobile use would be prohibited in the parks as of the winter of 2004-2005, with restrictions on snowmobile use phased in during the winter of 2003-2004. Alternatives 2, 3, and 4, as discussed in the FSEIS, allow for continued recreational snowmobile use subject to daily limits on the number of snowmobiles that can enter the parks. This rulemaking proposes to promulgate alternative 4, with a few modifications.

The primary beneficiaries of Alternatives 2, 3, and 4 are the park visitors who ride snowmobiles in the park and the businesses that serve them. Benefits accruing to individual visitors are called consumer surplus gains and those accruing to businesses are called producer surplus gains. Consumer surplus measures the net economic benefit obtained by individuals from participating in their chosen activities, while producer surplus measures the net economic benefit obtained by businesses from providing services to individuals. Overall, Alternative 2 should provide greater consumer surplus benefits to snowmobile riders than Alternatives 3 and 4, since it is less restrictive with respect to entry limits, snowmobile emission standards, and guiding requirements. As with the benefits described above, the costs of any alternative are measured relative to the baseline conditions. The primary group that would incur costs under Alternatives 2, 3, and 4 would be the park visitors who do not ride snowmobiles and the businesses that provide services to these visitors, as well as members of the general public who place a value on protecting park resources from the negative externalities associated with snowmobile use. Out of the set of alternatives that allow for continued snowmobile access to the parks, Alternative 3 is expected to impose the lowest costs on non-snowmobile users who are adversely affected by snowmobile use because of the lower daily limits, stricter emission limits and guided tour requirement relative to Alternatives 2 and 4. Alternative 4 is expected to impose only slightly higher costs on non-snowmobile users than Alternative 3, with the biggest difference between Alternatives 3 and 4 coming from the higher daily use limits under Alternative 4.

Balancing the benefits and the costs presented in this section, Alternative 4, as proposed in this rulemaking, provides for increased consumer surplus for snowmobile riders while containing provisions that should help mitigate the costs imposed on those visitors who are affected by the negative externalities imposed by snowmobiles.

Compliance With Other Laws

Regulatory Planning and Review (Executive Order 12866)

This document is a significant rule and has been reviewed by the Office of Management and Budget under Executive Order 12866.

(1) This rule will not have an effect of $100 million or more on the economy. It will not adversely affect in a material way the economy, productivity, competition, jobs, the environment, public health or safety, or State, local, or tribal governments or communities. These conclusions are based on the analysis contained in the Final SEIS and a report we commissioned on the economic impact of this regulation, “Proposed Regulations on Snowmobile Riding in the Greater Yellowstone Area,” MACTEC Engineering and Consulting, August 2003.

(2) This rule will not create a serious inconsistency or otherwise interfere with an action taken or planned by another agency. Implementing actions under this rule will not interfere with plans by other agencies or local government plans, policies, or controls since this is an agency specific change.

(3) This rule does not alter the budgetary effects of entitlements, grants, user fees, or loan programs or the rights or obligations of their recipients. It only affects the use of over-snow machines within specific national parks. No grants or other forms of monetary supplement are involved.

(4) This rule may raise novel legal or policy issues. The issue has generated local as well as national interest on the subject in the Greater Yellowstone Area. The NPS received nearly 360,000 public comment letters on the draft SEIS. Additionally, this is only the second NPS regulation to use an adaptive management strategy for managing visitor use levels. That concept, coupled with new provisions for Best Available Technology engine requirements, make this proposed rule unique to the NPS.

Regulatory Flexibility Act

The Department of the Interior certifies that this document will not have a significant economic effect on a substantial number of small entities under the Regulatory Flexibility Act (5 U.S.C. 601 et seq.). This certification is based on information contained in the reports entitled “Winter 2002-2003 Visitor Survey: Yellowstone and Grand Teton National Parks” (MACTEC Engineering and Consulting, Inc. August 2003) and “Proposed Regulations on Snowmobile Riding in the Greater Yellowstone Area” (MACTEC Engineering and Consulting, Inc. August 2003). These reports are available in their draft form on the Yellowstone website. Final versions of these reports will be available upon publication of the final rule.

Small Business Regulatory Enforcement Fairness Act (SBREFA)

This rule is not a major rule under 5 U.S.C. 804(2), the Small Business Regulatory Enforcement Fairness Act. This rule:

a. Does not have an annual effect on the economy of $100 million or more.

b. Will not cause a major increase in costs or prices for consumers, individual industries, Federal, State, or local government agencies, or geographic regions.

c. Does not have significant adverse effects on competition, employment, investment, productivity, innovation, or the ability of U.S.-based enterprises to compete with foreign-based enterprises. This rulemaking has no effect on methods of manufacturing or production and specifically affects the Wyoming region, not national or U.S. based enterprises.

Unfunded Mandates Reform Act

This rule does not impose an unfunded mandate on State, local, or tribal governments or the private sector of more than $100 million per year. The rule does not have a significant or unique effect on State, local or tribal governments or the private sector. It addresses public use of national park lands, and imposes no requirements on other agencies or governments.

Takings (Executive Order 12630)

In accordance with Executive Order 12630, the rule does not have significant takings implications. Access to private property located within or adjacent to the parks will still be afforded the same access during winter as before this rule. No other property is affected.

Federalism (Executive Order 13132)

In accordance with Executive Order 13132, the rule does not have sufficient federalism implications to warrant the preparation of a Federalism Assessment. It addresses public use of national park lands, and imposes no requirements on other agencies or governments.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

A Final Supplemental Environmental Impact Statement has been completed and a Record of Decision issued. The Final SEIS and ROD are available for review by contacting Yellowstone or Grand Teton Planning Offices or at www.nps.gov/grte/winteruse/intro.htm.

Government-to-Government Relationship With Tribes

In accordance with the President's memorandum of April 29, 1994, “Government to Government Relations with Native American Tribal Governments” (59 FR 22951) and 512 DM 2:

We have evaluated potential effects on federally recognized Indian tribes and have determined that there are no potential effects. Numerous tribes in the area were consulted in the development of the SEIS. Their major concern was to reduce the adverse effects on wildlife by snowmobiles. This rule does that through implementation of the guiding requirements and disbursement of snowmobile use through the various entrance stations.

Clarity of Rule

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section” appears in bold type and is preceded by the symbol “§” and a numbered heading; for example § 7.13 Yellowstone National Park.) (5) Is the description of the rule in the SUPPLEMENTARY INFORMATION section of the preamble helpful in understanding the proposed rule? What else could we do to make the rule easier to understand?

Send a copy of any comments that concern how we could make this rule easier to understand to: Office of Regulatory Affairs, Department of the Interior, Room 7229, 1849 C Street, NW., Washington, DC 20240. You may also e-mail the comments to this address: Exsec@ios.doi.gov.

Drafting Information: The primary authors of this regulation were Kevin Schneider, Outdoor Recreation Planner, Mona Divine, Deputy Chief Ranger, John Sacklin, Supervisory Park Resource Planner, Yellowstone National Park and; Bill Holda, Supervisory Park Ranger, Grand Teton National Park; and Kym Hall, NPS Regulations Program Manager, and Barry Roth, Attorney-Advisor, Washington, DC.

Public Participation: If you wish to comment, you may submit your comments by any one of several methods. You may mail comments to: Planning Office, Yellowstone National Park, PO Box 168, Yellowstone National Park, WY 82190. You may also comment via the Internet at www.nps.gov/yell/rule. Finally, you may hand deliver comments to Planning Office, Mammoth Hot Springs, Yellowstone National Park, Wyoming. Our practice is to make comments, including names and addresses of respondents, available for public review during regular business hours. Individual respondents may request that we withhold their home address from the rulemaking record, which we will honor to the extent allowable by law. If you wish us to withhold your name and/or address, you must state this prominently at the beginning of your comment. However, we will not consider anonymous comments. We will make all submissions from organizations or businesses, and from individuals identifying themselves as representatives or officials of organizations or businesses, available for public inspection in their entirety.

List of Subjects in 36 CFR Part 7

District of Columbia, National parks, Reporting and recordkeeping requirements.

We propose to amend 36 CFR part 7 as set forth below:

PART 7—SPECIAL REGULATIONS, AREAS OF THE NATIONAL PARK SYSTEM

1. The authority for part 7 continues to read as follows:

Authority: 16 U.S.C. 1, 3, 9a, 460(q), 462(k); sec. 7.96 also issued under D.C. Code 8-137 (1981) and D.C. Code 40-721 (1981).

2. Amend § 7.13 to revise paragraph (l) to read as follows:

§ 7.13 Yellowstone National Park.

* * * * *

(l)(1) What terms do I need to know? Commercial guide means those guides who operate as a snowmobile guide for a fee or compensation and are authorized to operate in the park under a concession contract.

Non-commercial guide means those authorized guides who have successfully completed an NPS-approved training course and provide guiding services without compensation.

Oversnow route means that portion of the unplowed roadway located between the road shoulders and is designated by snow poles or other poles, ropes, fencing, or signs erected to regulate over-snow activity. Oversnow routes include pullouts or parking areas that are groomed or marked similarly to roadways and are adjacent to designated oversnow routes. An oversnow route may also be distinguished by the interior boundaries of the berm created by the packing and grooming of the unplowed roadway. Only oversnow vehicles are permitted on oversnow routes.

Oversnow vehicle means a snowmobile, snowcoach, or other motorized vehicle that is intended for travel primarily on snow and is authorized by the Superintendent to operate in the park. An oversnow vehicle that does not meet the definition of a snowcoach or a snowplane must comply with all requirements applicable to snowmobiles.

Snowcoach means a self-propelled mass transit vehicle intended for travel on snow, having a curb weight of over 1000 pounds (450 kilograms), driven by a track or tracks and steered by skis or tracks, having a capacity of at least 8 passengers.

Snowplane means a self-propelled vehicle intended for oversnow travel and driven by an air-displacing propeller.

(2) May I operate a snowmobile in Yellowstone National Park? You may operate a snowmobile in Yellowstone National Park in compliance with use limits and entry passes, guiding requirements, operating dates, equipment, and operating conditions established in this section. The Superintendent may establish additional operating conditions and shall provide notice of those conditions in accordance with § 1.7(a) of this chapter.

(3) May I operate a snowcoach in Yellowstone National Park? Commercial snowcoaches may be operated in Yellowstone National Park under a concessions contract. Non-commercial snowcoaches may be operated if authorized by the Superintendent. Snowcoach operation is subject to the conditions stated in the concessions contract and all other conditions identified in this section:

(i) Beginning with the winter of 2005-2006, all non-historic snowcoaches must meet NPS emissions requirements. These requirements are the EPA's emission standards for the vehicle at the time it was manufactured.

(ii) Any pollution control equipment that has exceeded its useful life must be replaced.

(iii) Tampering with or disabling a snowcoach's original pollution control equipment is prohibited except for maintenance purposes.

(iv) Individual snowcoaches will be periodically inspected tested to determine compliance with the requirements of paragraphs (l)(3)(i) through (l)(3)(iii) of this section.

(v) Beginning with the winter of 2008-2009, all non-historic snowcoaches must meet NPS sound requirements. Snowcoaches must operate at or below 75 dB(A) as measured at 25 mph on the A-weighted scale at 50 feet using test procedures similar to Society of Automotive Engineers J1161 (revised 1983).

(vi) Historic snowcoaches (Bombardier snowcoaches manufactured in 1983 or earlier) are not initially required to meet air or sound requirements.

(4) Must I operate a certain model of snowmobile? Only commercially available snowmobiles that meet NPS air and sound emissions requirements may be operated in Yellowstone National Park. The park will identify snowmobile makes, models, and year of manufacture that meet those requirements. Any snowmobile not so identified by the NPS may not be operated in the park.

(i) Snowmobiles must achieve air emissions below 15 g/kW-hr for hydrocarbons and 120 g/kW-hr for carbon monoxide as tested using a 5-mode engine dynamometer in accordance with the test cycle identified by EPA's snowmobile regulations in 40 CFR parts 1051 and 1065.

(ii) For sound emissions snowmobiles must operate at or below 73dB(A) as measured at full throttle according to Society of Automotive Engineers J192 test procedures (revised 1985).

(iii) Snowmobiles not operating under a concessions contract do not have to meet air and sound requirements for the winter 2003-2004 only.

(5) Where must I operate my snowmobile in Yellowstone National Park? You must operate your snowmobile only upon designated oversnow routes established within the park. The following oversnow routes are designated for snowmobile use:

(i) The Grand Loop Road from its junction with Terrace Springs Drive to Norris Junction.

(ii) Norris Junction to Canyon Junction.

(iii) The Grand Loop Road from Norris Junction to Madison Junction.

(iv) The West Entrance Road from the park boundary at West Yellowstone to Madison Junction.

(v) The Grand Loop Road from Madison Junction to West Thumb.

(vi) The South Entrance Road from the South Entrance to West Thumb.

(vii) The Grand Loop Road from West Thumb to its junction with the East Entrance Road.

(viii) The East Entrance Road from the East Entrance to its junction with the Grand Loop Road.

(ix) The Grand Loop Road from its junction with the East Entrance Road to Canyon Junction.

(x) The South Canyon Rim Drive.

(xi) Lake Butte Road.

(xii) In the developed areas of Madison Junction, Old Faithful, Grant Village, Lake, Fishing Bridge, Canyon, Indian Creek, and Norris.

(xiii) The Superintendent may designate additional oversnow routes for snowmobiles only when the use is consistent with the park's natural, cultural, scenic and aesthetic values, safety considerations, park management objectives, and will not disturb wildlife or damage park resources.

(xiv) The Superintendent may open or close these or other routes, or portions thereof, after taking into consideration the location of wintering wildlife, appropriate snow cover, public safety, and other factors. Notice of such opening or closing shall be provided by one or more of the methods listed in § 1.7(a) of this chapter.

(xv) Maps detailing the designated oversnow routes will be available from Park Headquarters.

(6) What routes are designated for snowcoach use? Authorized snowcoaches may only be operated on the routes designated for snowmobile use in paragraphs (l)(5)(i) through (l)(5)(xii) of this section and the following additional oversnow routes:

(i) Firehole Canyon Drive.

(ii) Fountain Flat Road.

(iii) Virginia Cascades Drive.

(iv) North Canyon Rim Drive.

(v) Riverside Drive.

(vi) That portion of the Grand Loop Road from Canyon Junction to Washburn Hot Springs overlook.

(vii) The Superintendent may designate or close these or other oversnow routes for snowcoach travel. Notice of such opening or closing shall be provided by one or more of the methods listed in § 1.7(a) of this chapter.

(7) Will I be required to use a guide while snowmobiling in Yellowstone? Beginning in the winter of 2004-2005, all recreational snowmobile operators must be accompanied by a guide that has successfully completed an NPS-approved training program.

(8) What other requirements apply to the use of snowmobile guides? During the winter of 2003-2004 only, eighty percent (80%) of the authorized daily snowmobile entries are allocated under concessions contracts for commercial guiding services, while the remaining twenty percent (20%) of the authorized daily snowmobile entries are allocated to the general public and do not require a guide. Beginning the winter of 2004-2005, eighty percent (80%) of the authorized daily snowmobile entries for each entrance are allocated for commercially guided parties, while the remaining twenty percent (20%) of the authorized daily snowmobile entries are allocated for non-commercially guided parties.

(i) Non-commercial guides will be required to successfully complete a training program approved by the Superintendent to include training on park rules, safety considerations, and appropriate actions to minimize impacts to wildlife and other park resources.

(ii) Snowmobile parties must travel in a group of at least two snowmobiles but no more than 11 snowmobiles, including that of the guide.

(iii) It is prohibited for non-commercial guides, or anyone else, to receive fees or other forms of compensation for non-commercial guiding services.

(iv) Guided parties must travel together within a maximum of one-third mile of the first snowmobile in the group.

(v) The Superintendent may change requirements related to guiding, including the commercial: non-commercial guide ratio. Except for emergency situations, changes to guiding requirements may be made annually and the public will be notified of those changes by one or more of the procedures listed in § 1.7(a) of this chapter.

(9) Are there limits established for the numbers of snowmobiles permitted to enter the park each day? Beginning with the winter of 2003-2004, the numbers of snowmobiles allowed to enter the park each day will be limited to a certain number per entrance. The initial limits are listed in the following table:

Table 1 to § 7.13.—Initial Daily Snowmobile Entry Limits
Park entrance road segment | Number of commercially-guided snowmobiles entrance passes | Number of non-commercially guided snowmobile entrance passes ¹ | Total number of snowmobile entrance passes
(i) YNP—North Entrance | 40 | 10 | 50
(ii) YNP—West Entrance | 440 | 110 | 550
(iii) YNP—South Entrance | 200 | 50 | 250
(iv) YNP—East Entrance | 80 | 20 | 100
¹ In the 2003-2004 winter season only, these entries would be available for unguided parties, to allow sufficient time to develop and implement a non-commercial guide training program.

(v) The limits established in Table 1 to this section apply until modified by the Superintendent. The Superintendent may establish different limits on an annual basis, after taking into consideration the effectiveness of air and sound requirements, the state of technology, monitoring results, or other relevant information. The public will be made aware of any new limits through publication in the Federal Register and using one or more of the methods listed in § 1.7(a) of this chapter.

(10) When may I operate my snowmobile or snowcoach? (i) A snowmobile or snowcoach may only be operated between 7:00 a.m. and 9:00 p.m.

(ii) The Superintendent may adjust operating hours. Except for emergency situations, changes to operating hours may be made annually and the public will be notified of those changes through publication in the Federal Register and through one or more of the methods listed in § 1.7(a) of this chapter.

(11) What other conditions apply to the operation of oversnow vehicles? (i) The following operating conditions are prohibited:

(A) Idling an oversnow vehicle more than 5 minutes at any one time.

(B) Operating an oversnow vehicle while the operator's state motor vehicle license or privilege is suspended or revoked by any state.

(C) Allowing or permitting an unlicensed driver to operate an oversnow vehicle.

(D) Operating an oversnow vehicle in willful or wanton disregard for the safety of persons, property, or park resources or otherwise in a reckless manner.

(E) Operating an oversnow vehicle without a lighted white headlamp and red taillight.

(F) Operating an oversnow vehicle that does not have brakes in good working order.

(G) The towing of persons on skis, sleds or other sliding devices by oversnow vehicles, except in emergency situations.

(ii) The following operating conditions are required:

(A) All vehicles that stop on designated routes must pull over to the far right and next to the snow berm. Pullouts must be utilized where available and accessible. Vehicles may not be stopped in a hazardous location or where the view might be obscured, or operating so slowly as to interfere with the normal flow of traffic.

(B) Oversnow vehicle operators must possess a valid state motor vehicle operator's license. A learner's permit does not satisfy this requirement. The license must be carried on the operator's person at all times.

(C) Equipment sleds towed by a snowmobile must be pulled behind the snowmobile and fastened to the snowmobile with a rigid hitching mechanism.

(D) Snowmobiles must be properly registered and display a valid state registration sticker from any state in the United States.

(iii) The Superintendent may impose other terms and conditions as necessary to protect park resources, visitors, or employees. The public will be notified of any changes through one or more methods listed in § 1.7(a) of this chapter.

(12) What conditions apply to alcohol use while operating an oversnow vehicle? In addition to the regulations contained in 36 CFR 4.23, the following conditions apply:

(i) Operating or being in actual physical control of an oversnow vehicle is prohibited when the operator is 20 years of age or younger and the alcohol concentration in the operator's blood or breath is 0.02 grams or more of alcohol per 100 milliliters or blood or 0.02 grams or more of alcohol per 210 liters of breath.

(ii) Operating or being in actual physical control of an oversnow vehicle is prohibited when the operator is a snowmobile guide or a snowcoach operator and the alcohol concentration in the operator's blood or breath is 0.02 grams or more of alcohol per 100 milliliters of blood or 0.02 grams or more of alcohol per 210 liters of breath.

(iii) Refusing to take an alcohol or drug test, as required under 36 CFR 4.23, or any conviction for driving under the influence of drugs or alcohol while driving a motor vehicle or operating an oversnow vehicle disqualifies an operator from snowmobile guiding or operating a commercial snowcoach.

(13) Do other NPS regulations apply to the use of oversnow vehicles? The following sections apply to the use of oversnow vehicles, but the provisions of this section govern for purposes of operating an oversnow vehicle:

(i) Notwithstanding the definition of vehicle set forth in § 1.4, the provisions of §§ 4.3, 4.4, 4.12, 4.13, 4.14, 4.20, 4.21, 4.22, and 4.23 of this chapter apply to the operation of an oversnow vehicle.

(ii) The use of snowmobiles in Yellowstone is not subject to §§ 2.18 and 2.19(b) of this chapter.

(14) Are there any other forms of non-motorized oversnow transportation allowed in the park? Non-motorized travel consisting of skiing, skating, snowshoeing, or walking are permitted unless otherwise restricted pursuant to this section or other provisions of 36 CFR part 1.

(i) The Superintendent may designate areas of the park as closed, reopen such areas or establish terms and conditions for non-motorized travel within the park in order to protect visitors, employees or park resources.

(ii) Dog sledding or ski-jorring is prohibited.

(15) May I operate a snowplane in Yellowstone? The operation of a snowplane in Yellowstone is prohibited.

(16) Is violating any of the provisions of this section prohibited? Violating any of the terms, conditions or requirements of paragraphs (l)(1) through (l)(15) of this section is prohibited. Each occurrence of non-compliance with these regulations is a separate violation.

* * * * *

3. Amend § 7.21 to revise paragraph (a) to read as follows:

§ 7.21 John D. Rockefeller, Jr., Memorial Parkway.

(a)(1) What terms do I need to know? All the terms in § 7.13(l)(1) of this part apply to this section.

(2) May I operate a snowmobile in the Parkway? You may operate a snowmobile in the Parkway in compliance with use limits, guiding requirements, operating dates, equipment, and operating conditions established in this section. The Superintendent may establish additional operating conditions and shall provide notice of those conditions in accordance with § 1.7(a) of this chapter.

(3) May I operate a snowcoach in the Parkway? Commercial snowcoaches may be operated in the Parkway under a concessions contract. Non-commercial snowcoaches may be operated if authorized by the Superintendent. Snowcoach operation is subject to the conditions stated in the concessions contract and all other conditions identified in this section.

(i) Beginning with the winter of 2005-2006, all non-historic snowcoaches must be NPS air emissions requirements. These requirements are the EPA's emission standards for the vehicle at the time it was manufactured.

(ii) Any pollution equipment that has exceeded it useful life must be replaced.

(iii) Tampering with or disabling a snowcoach's original pollution control equipment is prohibited except for maintenance purposes.

(iv) Individual snowcoaches will be periodically inspected to determine compliance with the requirements of paragraphs (a)(3)(i) through (a)(3)(iii) of this section.

(v) Beginning with the winter of 2008-2009, all non-historic snowcoaches must meet NPS sound requirements. Snowcoaches must operate at or below 75 dB(A) as measured at 25 mph on the A-weighted scale at 50 feet using test procedures similar to Society of Automotive Engineers J1161 (revised 1983).

(vi) Historic snowcoaches (Bombardier snowcoaches manufactured in 1983 or earlier) are not required to meet air or sound requirements.

(4) Must I operate a certain model of snowmobile? Only commercially available snowmobiles that meet NPS air and sound requirements may be operated in the parkway. The park will identify snowmobile makes, models, and year of manufacture that meet those requirements. Any snowmobile not so identified by the NPS may not be operated in the park.

(i) Snowmobiles must achieve air emissions below 15 g/kW-hr for hydrocarbons and 120 g/kW-hr for carbon monoxide as tested using a 5-mode engine dynamometer in accordance with the test cycle identified by EPA's snowmobile regulations in 40 CFR parts 1051 and 1065.

(ii) For sound emissions snowmobiles must operate at or below 73dB(A) as measured at full throttle according to Society of Automotive Engineers J192 test procedures (revised 1985).

(iii) These air and sound emissions requirements shall not apply to snowmobiles originating in the Targhee National Forest and traveling on the Grassy Lake Road to Flagg Ranch; however, these snowmobiles may not travel further into the Parkway than Flagg Ranch.

(5) Where must I operate my snowmobile in the Parkway? You must operate your snowmobile only upon designated oversnow routes established within the Parkway. The following oversnow routes are designated for snowmobile use:

(i) The Continental Divide Snowmobile Trail (CDST) along U.S. Highway 89/287 from the southern boundary of the Parkway north to the Snake River Bridge.

(ii) Along U.S. Highway 89/287 from the Snake River Bridge to the northern boundary of the Parkway.

(iii) Grassy Lake Road from Flagg Ranch to the western boundary of the Parkway.

(iv) The Superintendent may designate other oversnow routes for snowmobile use only when the use is consistent with the park's natural, cultural, scenic and aesthetic values, safety considerations, park management objectives, and will not disturb wildlife or damage park resources.

(v) The Superintendent may open or close these routes or other routes, or portions thereof, after taking into consideration the location of wintering wildlife, appropriate snow cover, public safety or to effectively manage visitor use and experience. Notice of such opening or closing shall be provided by one or more of the methods listed in § 1.7(a) of this chapter.

(vi) Maps detailing the designated oversnow routes will be available from Park Headquarters.

(6) What routes are designated for snowcoach use? (i) Authorized snowcoaches may only be operated on the route designated for snowmobile use in paragraph (a)(5)(ii) of this section. No other routes are open to snowcoach use.

(ii) The Superintendent may designate or close these or other oversnow routes for snowcoach travel. Notice of such opening or closing shall be provided by one or more of the methods listed in § 1.7(a) of this chapter.

(7) Will I be required to use a guide while snowmobiling in the Parkway? Beginning in the winter of 2004-2005, all recreational snowmobile operators using the oversnow route along U.S. Highway 89/287 from Flagg Ranch to the northern boundary of the parkway must be accompanied by a guide that has successfully completed an NPS-approved training program. A guide is not required in other portions of the parkway.

(8) What other requirements apply to the use of snowmobile guides? During the winter of 2003-2004 only, eighty percent (80%) of the authorized daily snowmobile use on U.S. Highway 89/287 from the Snake River Bridge to the northern boundary of the Parkway is awarded under concessions contracts for commercial guiding services, while the remaining twenty percent (20%) of the authorized daily snowmobile entries do not require a guide. Beginning the winter of 2004-2005, eighty percent (80%) of the authorized daily snowmobile use on this road segment are allocated for commercially guided parties. The remaining twenty percent (20%) of authorized daily snowmobile use is allocated for non-commercially guided parties.

(i) Non-commercial guides are required to successfully complete a training program approved by the Superintendent to include training on parkway rules, safety considerations, and appropriate actions to minimize impacts to wildlife and other parkway resources.

(ii) Snowmobile parties must travel in a group of at least two snowmobiles but no more than 11 snowmobiles, including the guide.

(iii) It is prohibited for non-commercial guides, or anyone else, to receive fees or other forms of compensation for the non-commercial guiding services.

(iv) Guided parties must travel together within a maximum of one-third mile of the first snowmobile in the group.

(v) The Superintendent may change requirements related to guiding, including the commercial to non-commercial guide ratio. Except for emergency situations, changes to guiding requirements may be made annually and the public will be notified of those changes by one or more of the procedures listed in § 1.7(a) of this chapter.

(9) Are there limits established for the numbers of snowmobiles permitted to enter the Parkway each day? (i) Beginning with the winter of 2003-2004, the numbers of snowmobiles allowed to enter the Parkway each day will be limited to a certain number per road segment.

Table 1 to § 7.21.—Initial Daily Snowmobile Entry Limits
Park entrance/road segment | Number of commercially-guided snowmobile entrance passes | Number of non-commercially guided showmobile entrance passes | Total number of snowmobile entrance passes
(A) GTNP and the Parkway—Total Use on CDST ² | N/A | N/A | ¹ 75
(B) Parkway—Toal Use Grassy Lake Road | N/A | N/A | ¹ 75
¹ These users do not have to be accompanied by a guide.
² The Continental Divide Snowmobile Trail lies within both GTNP and the Parkway. The 75 daily snowmobile use limit applies to total use on this trail in both parks.

(ii) The limits established in Table 1 to this section apply until modified by the Superintendent. The Superintendent may modify these limits annually after taking into consideration the effectiveness of air and sound requirements, the state of technology, monitoring results, or other relevant information. The public will be made aware of new limits through publication in the Federal Register and using one or more of the methods listed in § 1.7(a) of this chapter.

(10) When may I operate my snowmobile or snowcoach? (i) A snowmobile or snowcoach may only be operated between 7 a.m. and 9 p.m.

(ii) The Superintendent may adjust operating hours. Except for emergency situations, changes to operating hours may be made annually and the public will be notified of those changes through publication in the Federal Register and through one or more of the methods listed in § 1.7(a) of this chapter.

(11) What other conditions apply to the operation of oversnow vehicles? (i) The following operating conditions are prohibited:

(A) Idling an oversnow vehicle more than 5 minutes at any one time.

(B) Operating an oversnow vehicle while the operator's state motor vehicle license or privilege is suspended or revoked by any state.

(C) Allowing or permitting an unlicensed driver to operate an oversnow vehicle.

(D) Operating an oversnow vehicle in willful or wanton disregard for the safety of persons, property, or parkway resources or otherwise in a reckless manner.

(E) Operating an oversnow vehicle without a lighted white headlamp and red taillight.

(F) Operating an oversnow vehicle that does not have brakes in good working order.

(G) The towing of persons on skis, sleds or other sliding devices by oversnow vehicles, except in emergency situations.

(ii) The following operating conditions are required:

(A) All vehicles that stop on designated routes must pull over to the far right and next to the snow berm. Pullouts must be utilized where available and accessible. Vehicles may not be stopped in a hazardous location or where the view might be obscured, or operating so slowly as to interfere with the normal flow of traffic.

(B) Oversnow vehicle operators must possess a valid state motor vehicle operator's license. The license must be carried on the operator's person at all times.

(C) Equipment sleds towed by a snowmobile must be pulled behind the snowmobile and fastened to the snowmobile with a rigid hitching mechanism.

(D) Snowmobiles must be properly registered and display a valid state registration sticker from any state in the United States.

(iii) The Superintendent may impose other terms and conditions as necessary to protect parkway resources, visitors, or employees. The public will be notified of any changes through one or more methods listed in § 1.7(a) of this chapter.

(12) What conditions apply to alcohol use while operating an oversnow vehicle? In addition to the regulations in 36 CFR 4.23, the following conditions apply:

(i) Operating or being in actual physical control of an oversnow vehicle is prohibited when the operator is 20 years of age or younger and the alcohol concentration in the operator's blood or breath is 0.02 grams or more of alcohol per 100 milliliters or blood or 0.02 grams or more of alcohol per 210 liters of breath.

(ii) Operating or being in actual physical control of an oversnow vehicle is prohibited when the operator is a guide or a snowcoach operator and the alcohol concentration in the operator's blood or breath is 0.02 grams or more of alcohol per 100 milliliters of blood or 0.02 grams or more of alcohol per 210 liters of breath.

(iii) Refusing to take an alcohol or drug test, as required under 36 CFR 4.23, or any conviction for driving under the influence of drugs or alcohol while driving a motor vehicle or operating an oversnow vehicle disqualifies an operator from guiding or operating a commercial snowcoach.

(13) Do other NPS regulations apply to the use of oversnow vehicles? The following sections apply to the use of oversnow vehicles, but the provisions of this section govern for purposes of operating an oversnow vehicle:

(i) Notwithstanding the definition of vehicle set forth in § 1.4, the provisions of §§ 4.1, 4.3, 4.4, 4.12, 4.13, 4.14, 4.20, 4.21, 4.22, and 4.23 of this chapter apply to the operation of an oversnow vehicle.

(ii) The use of snowmobiles in the Parkway is not subject to §§ 2.18 and 2.19(b) of this chapter.

(14) Are there any other forms of non-motorized oversnow transportation allowed in the parkway? (i) Non-motorized travel consisting of skiing, skating, snowshoeing, or walking are permitted unless otherwise restricted pursuant to this section or other provisions of 36 CFR part 1 provided you follow all applicable regulations.

(ii) The Superintendent may designate areas of the parkway as closed, reopen such areas or establish terms and conditions for non-motorized travel within the parkway in order to protect visitors, employees or park resources.

(15) May I operate a snowplane in the parkway? The operation of a snowplane in the parkway is prohibited.

(16) Is violating any of the provisions of this section prohibited? Violating any of the terms, conditions or requirements of paragraphs (a)(1) through (a)(15) of this section is prohibited. Each occurrence of non-compliance with these regulations is a separate violation.

* * * * *

4. Amend § 7.22 to revise paragraph (g) to read as follows:

§ 7.22 Grand Teton National Park.

* * * * *

(g)(1) What terms do I need to know? All the terms in § 7.13(l)(1) of this part apply to this section.

(2) May I operate a snowmobile in the Grand Teton National Park? You may operate a snowmobile in Grand Teton National Park in compliance with use limits, guiding requirements, operating dates, equipment, and operating conditions established in this section. The Superintendent may establish additional operating conditions and provide notice of those conditions in accordance with § 1.7(a) of this chapter.

(3) May I operate a snowcoach in Grand Teton National Park? It is prohibited to operate a snowcoach in Grand Teton National Park.

(4) Must I operate a certain model of snowmobile in the park? Only commercially available snowmobiles that meet NPS air and sound requirements may be operated in Grand Teton National Park. The park will identify snowmobile makes, models, and year of manufacture that meet those requirements. Any snowmobile not so identified by the NPS may not be operated in the park.

(i) Snowmobiles must achieve air emissions below 15 g/kW-hr for hydrocarbons and 120 g/kW-hr for carbon monoxide as tested using a 5-mode engine dynamometer in accordance with the test cycle identified by EPA's snowmobile regulations in 40 CFR parts 1051 and 1065.

(ii) For sound emissions snowmobiles must operate at or below 73dB(A) as measured at full throttle according to Society of Automotive Engineers J192 test procedures (revised 1985).

(iii) These air and sound requirements do not apply to snowmobiles while in use to access lands authorized by paragraphs (g)(14) and (g)(16) of this section.

(iv) Snowmobiles do not have to meet air and sound requirements for the winter 2003-2004 only.

(5) Where must I operate my snowmobile in the park? You must operate your snowmobile only upon designated oversnow routes established within the park. The following oversnow routes are designated for snowmobile use:

(i) The frozen water surface of Jackson Lake for the purposes of ice fishing only. Those persons accessing Jackson lake for ice fishing must possess a valid state fishing license and the proper fishing gear.

(ii) The Continental Divide Snowmobile Trail along U.S. 26/287 from Moran Junction to the eastern park boundary and along U.S. 89/287 from Moran Junction to the north park boundary.

(iii) The Superintendent may designate snowmobile routes only when the use is consistent with the park's natural, cultural, scenic and aesthetic values, safety considerations, park management objectives, and will not disturb wildlife or damage park resources.

(iv) The Superintendent may open or close these or other routes, or portions thereof, and may establish separate zones for motorized and non-motorized use on Jackson Lake, after taking into consideration the location of wintering wildlife, appropriate snow cover, public safety and to effectively manage visitor use and experience. Notice of such opening or closing shall be provided by one or more of the methods listed in § 1.7(a) of this chapter.

(v) Maps detailing the designated oversnow routes will be available from Park Headquarters.

(6) Will I be required to use a guide while snowmobiling in Grand Teton National Park? (i) You will not be required to use a guide while snowmobiling in Grand Teton National Park.

(ii) The Superintendent may establish requirements related to the use of guides, including requirements for commercial and/or non-commercial guides. Changes to guiding requirements may be made annually and the public will be notified of those changes by one or more of the procedures listed in § 1.7(a) of this chapter.

(7) Are there limits established for the numbers of snowmobiles permitted to operate in Grand Teton National Park each day? (i) Beginning with the winter of 2003-2004, the numbers of snowmobiles allowed to enter the park each day will be limited to a certain number per road segment or area. The initial limits are listed in the following table:

Table 1. To § 7.22.—To Initial Daily Snowmobile Entry Limits
Park entrance/road segment | Number of commercially-guided snowmobile entrance passes | Number of non-commercially guided snowmobile entrance passes | Total number of snowmobile entrance passes
(A) GTNP and the Parkway—Total Use on CDST ² | N/A | N/A | 75
(B) Jackson Lake | N/A | N/A | 40
¹ These users do not have to be accompanied by a guide.
² The Continental Divide Snowmobile Trail lies within both GTNP and the Parkway. The 75 daily snowmobile use limit applies to total use on this trail in both parks.

(ii) The limits established in Table 1 of this section apply until modified by the Superintendent. The Superintendent may modify these limits annually after taking into consideration the effectiveness of air and sound requirements, the state of technology, monitoring results, or other relevant information. The public will be made aware of new limits through publication in the Federal Register and using one or more of the methods listed in § 1.7(a) of this chapter.

(8) When may I operate my snowmobile? (i) A snowmobile may only be operated between 7 a.m. and 9 p.m.

(ii) The Superintendent may adjust operating hours. Except for emergency situations, changes to operating hours may be made annually and the public will be notified of those changes through publication in the Federal Register and through one or more of the methods listed in § 1.7(a) of this chapter.

(9) What other conditions apply to the operation of oversnow vehicles? (i) The following operating conditions are prohibited:

(A) Idling an oversnow vehicle more than 5 minutes at any one time.

(B) Operating an oversnow vehicle while the operator's state motor vehicle license or privilege is suspended or revoked by any state.

(C) Allowing or permitting an unlicensed driver to operate an oversnow vehicle.

(D) Operating an oversnow vehicle in willful or wanton disregard for the safety of persons, property, or park resources or otherwise in a reckless manner.

(E) Operating an oversnow vehicle without a lighted white headlamp and red taillight.

(F) Operating an oversnow vehicle that does not have brakes in good working order.

(G) The towing of persons on skis, sleds or other sliding devices by oversnow vehicles.

(ii) The following operating conditions are required:

(A) All vehicles that stop on designated routes must pull over to the far right and next to the snow berm. Pullouts must be utilized where available and accessible. Vehicles may not be stopped in a hazardous location or where the view might be obscured, or operating so slowly as to interfere with the normal flow of traffic.

(B) Oversnow vehicle operators must possess a valid state motor vehicle operator's license. The license must be carried on the operator's person at all times.

(C) Equipment sleds towed by a snowmobile must be pulled behind the snowmobile and fastened to the snowmobile with a rigid hitching mechanism.

(D) Snowmobiles must be properly registered and display a valid state registration sticker from any state in the United States.

(iii) The Superintendent may impose other terms and conditions as necessary to protect park resources, visitors, or employees. The public will be notified of any changes through one or more methods listed in § 1.7(a) of this chapter.

(10) What conditions apply to alcohol use while operating an oversnow vehicle? In addition to the regulations in 36 CFR 4.23, the following conditions apply:

(i) Operating or being in actual physical control of an oversnow vehicle is prohibited when the operator is 20 years of age or younger and the alcohol concentration in the operator's blood or breath is 0.02 grams or more of alcohol per 100 milliliters or blood or 0.02 grams or more of alcohol per 210 liters of breath.

(ii) Operating or being in actual physical control of an oversnow vehicle is prohibited when the operator is a commercial guide or a snow coach operator and the alcohol concentration in the operator's blood or breath is 0.02 grams or more of alcohol per 100 milliliters of blood or 0.02 grams or more of alcohol per 210 liters of breath.

(11) Do other NPS regulations apply to the use of oversnow vehicles? The following sections apply to the use of oversnow vehicles, but the provisions of this section govern for purposes of operating an oversnow vehicle:

(i) Notwithstanding the definition of vehicle set forth in § 1.4, the provisions of §§ 4.1, 4.3, 4.4, 4.12, 4.13, 4.14, 4.20, 4.21, 4.22, and 4.23 of this chapter apply to the operation of an oversnow vehicle.

(ii) The use of snowmobiles in Grand Teton National Park is not subject to §§ 2.18 and 2.19(b) of this chapter.

(12) Are there any other forms of non-motorized oversnow transportation allowed in the park? (i) Non-motorized travel including skiing, skating, snowshoeing, or walking are permitted provided you follow all applicable regulations.

(ii) The Superintendent may designate areas of the park as closed or establish terms and conditions for skiing, snowshoeing, or walking in order to protect visitors, employees or park resources.

(13) May I operate a snowplane in Grand Teton National Park? The operation of a snowplane in Grand Teton National Park is prohibited.

(14) May I continue to access public lands via snowmobile through the park? Reasonable and direct access, via snowmobile, to adjacent public lands will continue to be permitted on designated routes through the park. Requirements established in this section related to snowmobile operator age, guiding and licensing do not apply on these oversnow routes. The following routes only are designated for access via snowmobile to public lands:

(i) From the parking area at Shadow Mountain directly along the unplowed portion of the road to the east park boundary.

(ii) Along the unplowed portion of the Ditch Creek Road directly to the east park boundary.

(15) For what purpose may I use the routes designated in paragraph (g)(14) of this section? You may use those routes designated in paragraph (g)(14) of this section only to gain direct access to public lands adjacent to the park boundary.

(16) May I continue to access private property within or adjacent to the park via snowmobile? Until such time as the United States takes full possession of an inholding in the park, the Superintendent may establish reasonable and direct access routes via snowmobile, to such inholding, or to private property adjacent to park boundaries for which other routes or means of access are not reasonably available. Requirements established in this section related to air and sound emissions, snowmobile operator age, licensing, and guiding do not apply on these oversnow routes. The following routes are designated for access to properties within or adjacent to the park:

(i) The unplowed portion of Antelope Flats Road off U.S. 26/89 to private lands in the Craighead Subdivision.

(ii) The unplowed portion of the Teton Park Road to the piece of land commonly referred to as the “Clark Property”.

(iii) From the Moose-Wilson Road to the land commonly referred to as the “Barker Property”.

(iv) From the Moose-Wilson Road to the land commonly referred to as the “Wittimer Property”.

(v) From the Moose-Wilson Road to those two pieces of land commonly referred to as the “Halpin Properties”.

(vi) From the south end of the plowed sections of the Moose-Wilson Road to that piece of land commonly referred to as the “JY Ranch”.

(vii) From Highway 26/89/187 to those lands commonly referred to as the “Meadows”, the “Circle EW Ranch”, the “Moulton Property”, the “Levinson Property” and the “West Property”.

(viii) From Cunningham Cabin pullout on U.S. 26/89 near Triangle X to the piece of land commonly referred to as the “Lost Creek Ranch”.

(ix) Maps detailing designated routes will be available from Park Headquarters.

(17) For what purpose may I use the routes designated in paragraph (g)(16) of this section? Those routes designated in paragraph (g)(16) of this section are only to access private property within or directly adjacent to the park boundary. Use of these roads via snowmobile is authorized only for the landowners and their representatives or guests. Use of these roads by anyone else or for any other purpose is prohibited.

(18) Is violating any of the provisions of this section prohibited? Violating any of the terms, conditions or requirements of paragraphs (g)(1) through (g)(17) of this section is prohibited. Each occurrence of non-compliance with these regulations is a separate violation.

Dated: August 15, 2003.
Craig Manson,
Assistant Secretary for Fish and Wildlife and Parks.

[FR Doc. 03-21332 Filed 8-22-03; 10:22 am]

BILLING CODE 4312-CX-P